DEPARTMENT OF THE INTERIOR

National Park Service

National Register of Historic Places; Notification of Pending Nominations

Nominations for the following properties being considered for listing in the National Register were received by the National Park Service before August 25, 2001. Pursuant to section 60.13 of 36 CFR part 60 written comments concerning the significance of these properties under the National Register criteria for evaluation may be forwarded to the National Register, National Park Service, 1849 C St. NW, NC400, Washington, DC 20240. Written comments should be submitted by October 17, 2001.

Beth Savage,
Acting, Keeper of the National Register Of Historic Places.

MICHIGAN

Lenawee County

Palmer, Lorenzo and Ruth Wells, House, 760 Maple Grove Ave., Hudson, 01001070

NORTH CAROLINA

Buncombe County

Adams, Judge Junius G., House, 11 Stuyvesant Rd., Biltmore Forest, 01001077

Caswell County

Wildwood, 5680 Stephenton Rd., Semora, 01001076

Chowan County

Edenton Historic District (Boundary Increase), Both sides 300 block E. King St., Edenton, 01001075

Davidson County

Mor-Val Hosiery Mill, N. Main and E. First Sts., Denton, 01001074

Davie County

Cana Store and Post Office, NC 1411, 0.2 mi. N of NC 1406, Mocksville, 01001073

Forsyth County

Clayton Family Farm, 5809 Stanley Dr., Stanleyville, 01001072

Macon County

Playmore—Bowery Road Historic District, 1309-1311 Horse Cove Rd., 7,215,225,369,455 and 172-176,200,462 Bowery Rd., and 375-471 Upper Lake Rd., Highlands, 01001071

SOUTH DAKOTA

Bon Homme County

Metzgers, William, New Emporium, 1610 Main St., Tyndall, 01001079

Yankton County

Our Savior's Lutheran Church, 29219 431st Ave., Menno, 01001078

TENNESSEE

McMinn County

Chesnutt, James W., House, 105 A S. Niota Rd., Englewood, 01001081

UTAH

Salt Lake County

Salt Lake Hardware Company Warehouse, 155 N 400 W, Salt Lake City, 01001082

WASHINGTON

King County

Olson, Mary, Farm, 28728 Green River Rd. S., Kent, 01001080

A request for Removal has been made for the following Resource:

MISSOURI

Greene County

Second Baptist Church (Washington Avenue Baptist), 729 North Washington, Springfield, 00001620

[FR Doc. 01-24635 Filed 10-1-01; 8:45 am]

BILLING CODE 4310-70-P